CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of application instructions for Martin Luther King Jr. Day of Service (MLK Day) and September 11th Day of Service and Remembrance (September 11).

Brief description: Applicants for MLK Day and September 11 will submit an application following the application instructions. Applicants may apply for MLK Day, September 11, or both. The application is required to be considered for grant funding support from MLK Day or September 11.

Copies of the information collection request can be obtained by contacting the office listed in the Addresses section of this Notice.

DATES: Written comments must be submitted to the individual and office listed in the ADDRESSES section by September 12, 2016.

ADDRESSES: You may submit comments, identified by the title of the information collection activity, by any of the following methods:

(1) By mail sent to: Corporation for National and Community Service, CPO Office; Attention Patti Stengel, Senior Program Officer for Grants and Initiatives, Room 3208B; 250 E St SW., Washington, DC, 20525.

(2) By hand delivery or by courier to the CNCS mailroom at Room 4200 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Patti Stengel, 202-606-6745, or by email at pstengel@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Applicants use these application instructions to submit their application for the competitive funding available to hold service events on either MLK Day or September 11 or both. The application information is collected electronically through the CNCS eGrants system.

Current Action

This is a new information collection request. Previously the application instructions were separate for both MLK Day and September 11. This new information collection combines the approved specific instructions for MLK Day and the instructions for September 11, which used the approved generic CNCS application instructions. In the future, there will be one “Days of Service” competition for both of these grants.

The information collection will otherwise be used in the same manner as the existing application. CNCS also seeks to continue using the current application until the revised application is approved by OMB. The current application for MLK Day is due to expire on 03/31/2017. The current generic application for September 11 is due to expire on 01/31/2018.

Type of Review: New.

Agency: Corporation for National and Community Service.

Title: Day of Service Application Instructions.

OMB Number: None.

Agency Number: None.

Affected Public: The public affected are applicant organizations for MLK Day and September 11 grants. The following organizations are eligible to apply: public or private nonprofit organizations (including faith-based and other community organizations); institutions of higher education; government entities within states or territories (e.g., cities, counties); local government as defined in 2 CFR 200.64, government-recognized veteran service organizations; labor organizations; partnerships and consortia; and Indian Tribes.

Total Respondents: An estimated 70 organizations will respond.

Frequency: At most, the frequency is annual. The Day of Service competition will result in three year grants. Awarded applicants will also use these instructions to apply annually for continuation funding.

Average Time per Response: Averages 20 hours.

Estimated Total Burden Hours: 1,400 hours.

Total Burden Cost (capital/startup): None.

Total Burden Cost (operating/maintenance): None.

Comments submitted in response to this notice will be summarized and/or included in the request for Office of Management and Budget approval of the information collection request; they will also become a matter of public record.

Dated: July 6, 2016.
Kim Mansaray,
Chief of Program Operations.

[FR Doc. 2016-16524 Filed 7-11-16; 8:45 am]

BILLING CODE 6050-28-P